DEPARTMENT OF LABOR

Employment and Training Administration

[TA-W-56,391]

AVX Corporation, Raleigh, NC; Notice of Termination of Investigation

Pursuant to section 221 of the Trade Act of 1974, as amended, an investigation was initiated on January 25, 2005, in response to a petition filed by United Steelworkers of America Local 1028T on behalf of workers at AVX Corporation, Raleigh, North Carolina.

The petitioner has requested that the petition be withdrawn. Consequently, the investigation has been terminated.

Signed in Washington, DC this 7th day of February, 2005.
Elliott S. Kushner,
Certifying Officer, Division of Trade Adjustment Assistance.

[FR Doc. E5-1135 Filed 3-15-05; 8:45 am]

BILLING CODE 4510-30-P